DEPARTMENT OF ENERGY

Federal Energy Regulatory Commission

[Docket Nos. CP17-494-000;CP17-495-000]

Jordan Cove Energy Project LP; Pacific Connector Gas Pipeline L.P.; Notice of Availability of the Final Environmental Impact Statement for the Proposed Jordan Cove Energy Project

The staff of the Federal Energy Regulatory Commission (FERC or Commission), with the participation of the cooperating agencies listed below, has prepared a final environmental impact statement (EIS) for the Jordan Cove Liquefied Natural Gas Project proposed by Jordan Cove Energy Project L.P. (Jordan Cove) and the Pacific Connector Gas Pipeline Project proposed by Pacific Connector Gas Pipeline, LP (Pacific Connector) (collectively referred to as the Jordan Cove Energy Project or Project). Under Section 3 of the Natural Gas Act (NGA), Jordan Cove requests authorization to construct and operate a liquified natural gas terminal in Coos Bay, Oregon, capable of liquefying up to 1.04 billion cubic feet of natural gas per day for export to overseas markets. Pacific Connector seeks a Certificate of Public Convenience and Necessity under Section 7 of the NGA to construct and operate a natural gas transmission pipeline providing about 1.2 billion cubic feet per day of natural gas from the Malin hub to the Jordan Cove terminal, crossing portions of Klamath, Jackson, Douglas, and Coos Counties, Oregon.

The final EIS assesses the potential environmental effects of the construction and operation of the Project in accordance with the requirements of the National Environmental Policy Act (NEPA). As described in the final EIS, the FERC staff concludes that approval of the Project would result in a number of significant environmental impacts; however, the majority of impacts would be less than significant because of the impact avoidance, minimization, and mitigation measures proposed by Jordan Cove and Pacific Connector and those recommended by staff in the EIS.

The United States (U.S.) Department of the Interior Bureau of Land Management, (BLM), Bureau of Reclamation (Reclamation), and Fish and Wildlife Service; U.S. Department of Agriculture Forest Service (Forest Service); U.S. Department of Energy; U.S. Army Corps of Engineers; U.S. Environmental Protection Agency; U.S. Department of Commerce National Oceanic and Atmospheric Administration National Marine Fisheries Service; U.S. Department of Homeland Security Coast Guard; the Coquille Indian Tribe; and the U.S. Department of Transportation Pipeline and Hazardous Materials Safety Administration participated as cooperating agencies in preparation of this EIS. Cooperating agencies have jurisdiction by law or special expertise with respect to resources potentially affected by the proposal and participate in the NEPA analysis. The cooperating agencies provided input into the analyses, conclusions, and recommendations presented in the EIS. Following issuance of the final EIS, the cooperating agencies will issue subsequent decisions, determinations, permits, or authorizations for the Project in accordance with each individual agency's regulatory requirements.

The BLM, with the concurrence of the Forest Service and Reclamation, would adopt and use the EIS to consider issuing a right-of-way Grant for the portion of the Project on federal lands. Other cooperating agencies would use this EIS in their regulatory process, and to satisfy compliance with NEPA and other related federal environmental laws (e.g., the National Historic Preservation Act).

The BLM and the Forest Service would also use this EIS to evaluate proposed amendments to their District or National Forest land management plans that would make provision for the Pacific Connector pipeline. In order to consider the Pacific Connector right-of-way grant, the BLM must amend the affected Resource Management Plans (RMPs). The BLM therefore proposes to amend the RMPs to re-allocate all lands within the proposed temporary use area and right-of-way to a District-Designated Reserve, with management direction to manage the lands for the purposes of the Pacific Connector right-of-way. Approximately 885 acres would be re-allocated. District-Designated Reserve allocations establish specific management for a specific use or to protect specific values and resources. In accordance with Code of Federal Regulations (CFR) part 36 § 219—Planning, the Forest Service is considering amendments of Land and Resource Management Plans (LRMP) for the Umpqua, Rogue River, and Winema National Forests. Proposed amendments of LRMPs include reallocation of matrix lands to Late Successional Reserves and site-specific exemptions from 15 standards to allow construction of the Pacific Connector pipeline. Exemptions from standards include requirements to protect known sites of Survey and Manage species, changes in visual quality objectives at specific locations, limitations on detrimental soil conditions, removal of effective shade at perennial stream crossings and the construction of utility corridors in riparian areas.

The Commission mailed a copy of the Notice of Availability of the final EIS to federal, state, and local government representatives and agencies; elected officials; environmental and public interest groups; Indian Tribes; potentially affected landowners and other interested individuals and groups; and newspapers and libraries in the Project area. The final EIS is available in hard copy at libraries in the area of the Project and in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e., CP17-494 or CP17-495). Be sure you have selected an appropriate date range. For assistance, please contact FERC Online Support at FercOnlineSupport@ferc.gov or toll free at (866) 208-3676, or for TTY, contact (202) 502-8659.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.as

Dated: November 15, 2019.
Kimberly D. Bose,
Secretary.

Supplemental Information Regarding Procedures of the BLM and the Forest Service

Forest Service's Proposed Action

The Forest Service's purpose and need for the proposed action is to consider and disclose the environmental consequences of construction and operation of the Pacific Connector pipeline on NFS lands and to evaluate proposed LRMP amendments. The Forest Service has determined that the linear nature of the Pacific Connector Pipeline Project would not be consistent with certain requirements of the LRMPs of the Umpqua, Rogue River, and Winema National Forests. To address these inconsistencies, the Forest Service proposes to amend the LRMPs of the respective National Forests to make provision for the Project. The Forest Service will use this EIS to assess substantive requirements of the planning rule that are likely to be directly related to the amendment. The Forest Service is also using this EIS process to identify specific stipulations (including project design features and mitigation measures) related to resources within their jurisdiction for inclusion in the right-of-way Grant when considering issuing its concurrence, pursuant to the Mineral Leasing Act.

Forest Service's Draft Record of Decision and Objection Procedures

The Pacific Connector pipeline may be implemented across National Forest System (NFS) land if the BLM grants the right-of-way for the Pacific Connector pipeline to cross the Umpqua, Rogue River, and Winema National Forests and the Forest Service amends the respective National Forest LRMPs (Forest Plans). The Forest Supervisor of the Umpqua National Forest, as responsible official for the LRMP amendments, adopts the environmental analysis conducted by FERC (in accordance with 40 CFR 1506.3(a) and (c)) to support the decision to amend the Umpqua, Rogue River, and Winema National Forests LRMPs. She has determined that three parts of the Forest Plans, where 15 standards and two plan-level land allocation adjustments would be modified by a Forest Plan amendment (section 4.7 of the final EIS), meet the substantive requirements of the Forest Service planning regulations (36 CFR part 219); and can be implemented without impairing the long-term productivity of NFS lands. With the amended LRMPs, the Pacific Connector pipeline would be consistent with the Forest Plans. The draft decision is based on a review of the environmental analysis disclosed in the final EIS, the project record, Pacific Connector's proposed Plan of Development, comments from the public, partners, and other agencies, and a consideration of the 36 CFR part 219 requirements for amending a Forest Plan.

Decisions by the Forest Service to approve “plan level” amendments to Land Management Plans (proposed amendments UNF-4 and RRNF-7) are subject to the Pre-Decisional Administrative Review Process Regulations at 36 CFR 219 Subpart B. The term “plan level” refers to plan amendments that would apply to future management actions. Refer to the applicable administrative review regulations for eligibility requirements. Objections to the Forest Service decision must be filed within 60 calendar days from the publication date of the legal notice of the opportunity to object in the newspapers of record for the Umpqua, Rogue River, and Umpqua National Forests (News-Review, Mail Tribune, Herald and News, respectively).

Decisions by the Forest Service to approve “project-specific” plan amendments (proposed amendments FS-1, UNF-1, UNF-3, RRNF-2 thru RRNF-6, and WNF-1 thru WNF-5) are subject to the Administrative Review Process of 36 CFR 218 Subpart A and B, in accordance with 36 CFR 219.59 (b). The term “project specific” refers to amendments that would only apply to the proposed project and would not apply to any future management actions. Refer to the applicable administrative review regulations for eligibility requirements. Refer to the applicable administrative review regulations for eligibility requirements. Objections to the Forest Service decision must be filed within 45 calendar days from the publication date of the legal notice of the opportunity to object in the in the newspapers of record for the Umpqua, Rogue River, and Umpqua National Forests (News-Review, Mail Tribune, Herald and News, respectively).

The legal notices contain the details of the objection process. The Forest Service must respond to all objections received before it makes a final decision on the proposed Forest Plan amendments. The final decision on the Forest Plan amendments and the final EIS analysis will inform the Forest Service concurrence to the BLM for its Right-of-Way Grant.

A copy of the Forest Service draft Record of Decision (ROD) and of the legal notice for objections can be obtained by any of the following methods:

• FERC's eLibrary;

• Internet website: https://www.fs.usda.gov/project/?project=28132;

• email: david.krantz@usda.gov;

• or regular mail: David Krantz, Project Manager, Rogue River-Siskiyou National Forest, 3040 Biddle Rd., Medford, OR 97504; telephone 541-618-2082.

BLM Proposed Resource Management Plan Amendments and Protest Procedures

BLM planning regulations state that any person who participated in the planning process and has an interest which is or may be adversely affected may protest the BLM's Proposed Resource Management Plan Amendments. A person who meets the conditions and files a protest must file the protest within 30 days of the date that the Environmental Protection Agency publishes its Notice of Availability in the Federal Register.

In accordance with the National Environmental Policy Act of 1969, as amended, the BLM has actively participated as a Cooperating Agency in the preparation of the Jordan Cove Energy Project Final EIS. This final EIS includes the BLM Proposed Plan Amendments to the Northwest and Coastal Oregon Record of Decision and Resource Management Plan (2016) and the Southwestern Oregon Record of Decision and Resource Management Plan (2016) and Proposed right-of-way Actions, in response to an Application for right-of-way submitted by Pacific Connector Gas Pipeline, LP.

In accordance with the Federal Land Policy and Management Act of 1976, as amended, the BLM Proposed Plan Amendments are subject to administrative protest. The Proposed Plan Amendments are described in section 2.1.1.1 of the final EIS and incorporate several specific FERC-recommended conditions and one route variation. BLM planning regulations at 43 CFR 1610.5-2, describe the protest procedures and state that any person who meets the conditions may protest the BLM's Proposed RMP Amendments. All protests must be filed within 30 days of the date that the Environmental Protection Agency publishes its Notice of Availability of the final EIS in the Federal Register.

The FERC-prepared final EIS is available on the FERC docket and on BLM's ePlanning project website at https://go.usa.gov/xEt7B. Click the Documents link on the left side of the screen to find the electronic version of these materials.

All protests must be in writing and filed with the BLM Director, either as a hard copy or electronically via the BLM's ePlanning project website listed previously. To submit a protest electronically, go to the ePlanning project website and follow the protest instructions highlighted at the top of the home page. If submitting a protest in hard copy, it must be mailed to one of the following addresses:

Regular mail: | Overnight delivery:
BLM Director (210), Attention: Protest Coordinator, P.O. Box 71383, Washington, DC 20024-1383 | BLM Director (210), Attention: Protest Coordinator, 20 M Street SE, Room 2134LM, Washington, DC 20003.

Instructions for filing a protest with the Director of the BLM regarding the Proposed Plan Amendments may be found online at https://www.blm.gov/programs/planning-and-nepa/public-participation/filing-a-plan-protest and at 43 CFR 1610.5-2. All protests must be in writing and mailed to the appropriate address or submitted electronically through the BLM ePlanning project website as described above. Protests submitted electronically by any means other than the ePlanning project website protest section will be invalid unless a protest is also submitted in hard copy. Protests submitted by fax will also be invalid unless also submitted either through ePlanning project website protest section or in hard copy.

Before including your phone number, email address, or other personal identifying information in your protest, you should be aware that your entire protest—including your personally identifiable information—may be made publicly available at any time. While you can ask us in your protest to withhold your personal identifying information from public review, we cannot guarantee that we will be able to do so.

Authority: 40 CFR 1506.6, 40 CFR 1506.10, 43 CFR 1610.2, 43 CFR 1610.5.

[FR Doc. 2019-25269 Filed 11-20-19; 8:45 am]

BILLING CODE 6717-01-P